DEPARTMENT OF COMMERCE

National Oceanic and Atmospheric Administration

50 CFR Part 660

[Docket No. 060824226-6322-02]

RIN 0648-AW27

Magnuson-Stevens Act Provisions; Fisheries Off West Coast States; Pacific Coast Groundfish Fishery; Biennial Specifications and Management Measures; Inseason Adjustments

AGENCY: National Marine Fisheries Service (NMFS), National Oceanic and Atmospheric Administration (NOAA), Commerce.

ACTION: Final rule; inseason adjustments to biennial groundfish management measures; request for comments.

SUMMARY: This final rule announces inseason changes to management measures in the commercial Pacific Coast groundfish fishery. These actions, which are authorized by the Pacific Coast Groundfish Fishery Management Plan (FMP), are intended to allow fisheries to access more abundant groundfish stocks while protecting overfished and depleted stocks.

DATES: Effective 0001 hours (local time) December 4, 2007. Comments on this final rule must be received no later than 5 p.m., local time on January 3, 2008.

ADDRESSES: You may submit comments, identified by RIN 0648-AW27 by any one of the following methods:

• Electronic Submissions: Submit all electronic public comments via the Federal eRulemaking Portal http://www.regulations.gov.

• Fax: 206-526-6736, Attn: Gretchen Arentzen

• Mail: D. Robert Lohn, Administrator, Northwest Region, NMFS, 7600 Sand Point Way NE, Seattle, WA 98115-0070, Attn: Gretchen Arentzen.

Instructions: All comments received are a part of the public record and will generally be posted to http://www.regulations.gov without change. All Personal Identifying Information (for example, name, address, etc.) voluntarily submitted by the commenter may be publicly accessible. Do not submit Confidential Business Information or otherwise sensitive or protected information.

NMFS will accept anonymous comments. Attachments to electronic comments will be accepted in Microsoft Word, Excel, WordPerfect, or Adobe PDF file formats only.

FOR FURTHER INFORMATION CONTACT: Gretchen Arentzen (Northwest Region, NMFS), phone: 206-526-6147, fax: 206-526-6736 and e-mail gretchen.arentzen@noaa.gov.

SUPPLEMENTARY INFORMATION:

Electronic Access

This final rule is accessible via the Internet at the Office of the Federal Register's Website at http://www.gpoaccess.gov/fr/index.html. Background information and documents are available at the Pacific Fishery Management Council's (Council's) website at http://www.pcouncil.org/.

Background

The Pacific Coast Groundfish FMP and its implementing regulations at title 50 in the Code of Federal Regulations (CFR), part 660, subpart G, regulate fishing for over 90 species of groundfish off the coasts of Washington, Oregon, and California. Groundfish specifications and management measures are developed by the Pacific Fishery Management Council (Council), and are implemented by NMFS. A proposed rule to implement the 2007-2008 specifications and management measures for the Pacific Coast groundfish fishery and Amendment 16-4 of the FMP was published on September 29, 2006 (71 FR 57764). The final rule to implement the 2007-2008 specifications and management measures for the Pacific Coast Groundfish Fishery was published on December 29, 2006 (71 FR 78638). These specifications and management measures were codified in the CFR (50 CFR part 660, subpart G). The final rule was subsequently amended on: March 20, 2007 (72 FR 13043); April 18, 2007 (72 FR 19390); July 5, 2007 (72 FR 36617); August 3, 2007 (72 FR 43193); September 18, 2007 (72 FR 53165); and October 4, 2007 (72 FR 56664).

Changes to current groundfish management measures implemented by this action were recommended by the Council, in consultation with Pacific Coast Treaty Indian Tribes and the States of Washington, Oregon, and California, at its November 5-9, 2007, meeting in San Diego, California. At that meeting, the Council recommended adjusting current groundfish management measures to respond to updated fishery information and other inseason management needs in order to allow access to groundfish without exceeding the 2007 optimum yields (OYs) for the target species or the 2007 OYs for overfished and depleted stocks.

For the remainder of 2007, the Council recommended increasing the 2-month cumulative limits for sablefish in the limited entry non-whiting trawl fishery for large and small footrope trawl gear north of 40°10.00′ N. lat., increasing trip limits for sablefish in the limited entry non-whiting trawl fishery south of 40°10.00′ N. lat., and increasing the open access sablefish daily trip limits between 40°10.00′ N. lat. and 36° N. lat.

The Council also recommended adjusting management measures beginning January 1, 2008; these measures will be implemented in a separate rulemaking.

NMFS has considered the recommendations for the remainder of 2007, and is implementing them as described below. Pacific Coast groundfish landings will be monitored throughout the remainder of the biennium, and further adjustments to trip limits or management measures may be made as necessary to allow achievement of, or to avoid exceeding, optimum yields (OYs).

Commercial Sablefish Fishery Management Measures

The Council considered adjustments to 2007 sablefish trip limits in the limited entry non-whiting trawl fishery and in the open access daily trip limit (DTL) fishery. At the Council's November 2007 meeting, an advisory body to the Council, the Groundfish Management Team (GMT), reviewed the best available data on estimates of landed catch and total mortality for the sablefish in the limited entry trawl and open access fisheries. These data, which estimated catch through the end of October, were compared to catch and mortality estimates modeled for these fisheries and were used to update catch predictions through the end of the year. Based on the Pacific Fishery Information Network's (PacFIN's) Quota Species Monitoring (QSM) data, landed catch and total mortality data to date for 2007 have been lower than expected for: sablefish taken with large and small footrope trawl gear north of 40°10′ N. lat.; sablefish taken with trawl gear south of 40°10′ N. lat., and in the open access sablefish DTL fishery north of 36° N. lat. The Council considered increases to sablefish trip limits in these fisheries and the potential impacts on overall catch levels and overfished species.

The most recently updated catch projections for 2007 indicate 89 percent (2,380 mt out of 2,651 mt) of the trawl allocation of sablefish north of 36°, and 77 percent (350 mt out of 456 mt) of the open access allocation of sablefish is expected to be taken through the end of the year. This action would not increase estimated impacts on overfished species because estimated mortality for overfished species for 2007 assume that these sectors will achieve their sablefish allocations. Therefore, the Council recommended and NMFS is implementing: an increase in the limited entry trawl limits for large and small footrope trawl gear north of 40°10.00′ N. lat. from 22,000 lb (9,979 kg) per two months to 30,000 lb (13,608 kg) per two months; an increase in the sablefish trawl trip limits south of 40°10′ N. lat. from 22,000 lb (9,979 kg) per two months to 30,000 lb (13,608 kb) per two months; and an increase in the open access sablefish daily trip limits between 40°10.00′ N. lat. and 36° N. lat. from “300 lb (136 kg) per day, or 1 landing per week of up to 700 lb (318 kg), not to exceed 2,100 lb (953 kg) per two months” to “300 lb (136 kg) per day, or 1 landing per week of up to 1,000 lb (454 kg), not to exceed 3,000 lb (1,360 kg) per two months”, beginning December 1 through the remainder of 2007.

Classification

These actions are taken under the authority of 50 CFR 660.370(c) and are exempt from review under Executive Order 12866.

These actions are authorized by the Pacific Coast groundfish FMP and its implementing regulations, and are based on the most recent data available. The aggregate data, upon which these actions are based, are available for public inspection at the Office of the Administrator, Northwest Region, NMFS, (see ADDRESSES) during business hours.

For the following reasons, NMFS finds good cause to waive prior public notice and comment on the revisions to groundfish management measures under 5 U.S.C. 553(b)(3)(B) because notice and comment would be impracticable and contrary to the public interest. Also for the same reasons, NMFS finds good cause to waive the 30-day delay in effectiveness pursuant to 5 U.S.C. 553(d)(1) and 5 U.S.C. 553(d)(3).

The data upon which these recommendations were based was provided to the Council and the Council made its recommendations at its November 5-9, 2007, meeting in San Diego, California. The Council recommended that these changes be implemented on or as close as possible to December 1, 2007. There was not sufficient time after that meeting to draft this document and undergo proposed and final rulemaking before these actions need to be in effect. For the actions to be implemented in this notice, affording the time necessary for prior notice and opportunity for public comment would be impractical and contrary to the public interest because it would prevent the Agency from managing fisheries using the best available science to approach without exceeding the OYs for federally managed species. The adjustments to management measures in this document affect commercial groundfish fisheries off Washington, Oregon, and California.

Changes to the sablefish cumulative limits for the rest of 2007 in the non-whiting commercial fisheries must be implemented as soon as possible to relieve a restriction by allowing fishermen increased opportunities to harvest available healthy stocks. Changes to sablefish cumulative limits for the following fisheries must be implemented as close as possible to December 1, 2007: (1) limited entry trawl fishery north and south of 40°10.00′ N. lat.; and (2) open access daily trip limit fishery between 40°10.00′ N. lat. and 36° N. lat. It would be contrary to the public interest to wait to implement these trip limit changes until after public notice and comment, because making these regulatory changes as soon as possible relieves an unnecessary regulatory restriction for fisheries that are important to coastal communities. For the same reasons, allowing a 30-day delay in effectiveness would be contrary to the public interest.

Delaying these changes would keep management measures in place that are not based on the best available data, which could risk fisheries exceeding OYs, or deny fishermen access to available harvest. Such delay would impair achievement of one of the Pacific Coast Groundfish FMP objectives of providing for year-round harvest opportunities or extending fishing opportunities as long as practicable during the fishing year.

List of Subjects in 50 CFR Part 660

Administrative practice and procedure, Fisheries, Fishing, Reporting and recordkeeping requirements.

Dated: November 28, 2007.
Emily H. Menashes
Acting Director, Office of Sustainable Fisheries, National Marine Fisheries Service.

For the reasons set out in the preamble, 50 CFR part 660 is amended as follows:

PART 660—FISHERIES OFF WEST COAST STATES

1. The authority citation for part 660 continues to read as follows:

Authority: 16 U.S.C. 1801 et seq.

2. Tables 3 (North) and 3 (South) to part 660, subpart G are revised to read as follows:

3. Table 5 (South) to part 660, subpart G is revised to read as follows:

[FR Doc. 07-5925 Filed 12-3-07; 8:45 am]

BILLING CODE 3510-22-C